DEPARTMENT OF TRANSPORTATION

Pipeline and Hazardous Materials Safety Administration

Office of Hazardous Materials Safety; Actions on Special Permit Applications

AGENCY: Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (July to July 2016). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on August 19, 2016.
Donald Burger,
Chief, Special Permits and Approvals Branch.

S.P. No. | Applicant | Regulation(s) | Nature of special permit thereof
MODIFICATION SPECIAL PERMIT GRANTED
16035-M | LCF Systems, Inc., Scottsdale, AZ | 49 CFR 173.30Ia, 173.302a, and 173.304a | To reissue the special permit that was originally issued on an emergency basis with a two year renewal.
DENIED
16412-M | Request by Nantong CIMC Tank Equipment Co. Ltd., Jiangsu Province, July 14, 2016. To modify the special permit to authorize an additional hazardous material.
16391-M | Request by Halliburton Energy Services, Inc., Carrollton, TX, July 14, 2016. To modify the special permit to increase the restriction of the service pressure to 16.000 psi.

[FR Doc. 2016-20590 Filed 8-29-16; 8:45 am]

BILLING CODE 4909-60-M